DEPARTMENT OF COMMERCE

International Trade Administration

[A-570-908]

Sodium Hexametaphosphate From the People's Republic of China: Final Results of Antidumping Duty Administrative Review

AGENCY: Import Administration, International Trade Administration, Department of Commerce.

SUMMARY: On March 23, 2012, the Department of Commerce (“Department”) published in the Federal Register the Preliminary Results of the second administrative review of the antidumping duty order on sodium hexametaphosphate (“sodium hex”) from the People's Republic of China (“PRC”) for the period of review (“POR”) March 1, 2010, through February 28, 2011.¹ Based upon our analysis of the comments, we made changes to the margin calculation for the final results.

¹ See Sodium Hexametaphosphate from the People's Republic of China: Preliminary Results of Second Antidumping Duty Administrative Review, 77 FR 17013 (March 23, 2012) (“Preliminary Results”).

DATES: Effective Date: September 27, 2012.

FOR FURTHER INFORMATION CONTACT: Paul Walker, AD/CVD Operations, Office 9, Import Administration, International Trade Administration, Department of Commerce, 14th Street and Constitution Avenue NW., Washington, DC 20230; telephone—202.482.0413.

SUPPLEMENTARY INFORMATION:

Case History

On March 23, 2012, the Department published the Preliminary Results. On May 17, 2012, the Department extended the time limit for these final results by 60 days.²

² See Sodium Hexametaphosphate from the People's Republic of China: Extension of Time Limit for the Final Results, 77 FR 29314 (May 25, 2012).

Between May 4 and May 25, 2012, interested parties submitted surrogate value information and rebuttal surrogate value comments. Interested parties were further provided an opportunity to comment on the Preliminary Results. Between June 4, 2012, and June 11, 2012, we received briefs and rebuttal briefs from ICL Performance Products and Innophos, Inc. (“Petitioners”) and Hubei Xingfa Chemical Group Co., Ltd. (“Xingfa”).

Analysis of Comments Received

All issues raised in the case and rebuttal briefs by parties to this review are addressed in the memorandum entitled, “Second Administrative Review of Sodium Hexametaphosphate from the People's Republic of China: Issues and Decision Memorandum for the Final Results,” which is dated concurrently with and adopted by this notice (“I&D Memo”). A list of the issues which parties raised, and to which we respond in the I&D Memo is attached to this notice as Appendix I. The I&D Memo is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the I&D Memo can be accessed directly on the Internet at http://www.trade.gov/ia/. The signed I&D Memo and the electronic versions of the I&D Memo are identical in content.

Changes Since the Preliminary Results

The Department has made changes to the preliminary margin calculation. Specifically, we:

• Used the unconsolidated financial statement of Aditya Birla Chemicals (Thailand), Ltd., to calculate all surrogate financial ratios; ³

³ See I&D Memo at Comment I.

• Valued electricity using data from the Thai Metropolitan Electric Authority; ⁴

⁴ See I&D Memo at Comments II.

• Capped Xingfa's supplier distances; ⁵

⁵ See I&D Memo at Comment IV.A.

• Valued truck freight and brokerage and handling using Doing Business: Thailand 2011; ⁶

⁶ See I&D Memo at Comment IV.B.

• Valued white coal using a Thai harmonized tariff schedule number (“HTS”) for anthracite; and ⁷

⁷ See I&D Memo at Comment V.A.

• Valued super sacks using a Thai HTS.⁸

⁸ See I&D Memo at Comment VIII.

Scope of the Order

The merchandise subject to this review is sodium hexametaphosphate. Sodium hexametaphosphate is a water-soluble polyphosphate glass that consists of a distribution of polyphosphate chain lengths. It is a collection of sodium polyphosphate polymers built on repeating NaPO3 units. Sodium hexametaphosphate has a P2O5 content from 60 to 71 percent. Alternate names for sodium hexametaphosphate include the following: Calgon; Calgon S; Glassy Sodium Phosphate; Sodium Polyphosphate, Glassy; Metaphosphoric Acid; Sodium Salt; Sodium Acid Metaphosphate; Graham's Salt; Sodium Hex; Polyphosphoric Acid, Sodium Salt; Glass H; Hexaphos; Sodaphos; Vitrafos; and BAC-N-FOS. Sodium hexametaphosphate is typically sold as a white powder or granule (crushed) and may also be sold in the form of sheets (glass) or as a liquid solution. It is imported under heading 2835.39.5000, HTSUS. It may also be imported as a blend or mixture under heading 3824.90.3900, HTSUS. The American Chemical Society, Chemical Abstract Service (“CAS”) has assigned the name “Polyphosphoric Acid, Sodium Salt” to sodium hexametaphosphate. The CAS registry number is 68915-31-1. However, sodium hexametaphosphate is commonly identified by CAS No. 10124-56-8 in the market. For purposes of the review, the narrative description is dispositive, not the tariff heading, CAS registry number or CAS name.

The product covered by this review includes sodium hexametaphosphate in all grades, whether food grade or technical grade. The product covered by this review includes sodium hexametaphosphate without regard to chain length i.e., whether regular or long chain. The product covered by this review includes sodium hexametaphosphate without regard to physical form, whether glass, sheet, crushed, granule, powder, fines, or other form, and whether or not in solution.

However, the product covered by this review does not include sodium hexametaphosphate when imported in a blend with other materials in which the sodium hexametaphosphate accounts for less than 50 percent by volume of the finished product.

Separate Rates Determination

In our Preliminary Results, we determined that Xingfa met the criteria for separate rate status. We have not received any information since the issuance of the Preliminary Results that provides a basis for reconsidering this preliminary determination. Therefore, the Department continues to find that Xingfa has met the criteria for a separate rate.

Final Results of Review

The dumping margin for the POR is as follows:

Exporter | Margin (percent)
Hubei Xingfa Chemical Group Co., Ltd | 91.23

The Department will disclose calculations performed for these final results to the parties within five days of the date of publication of this notice, in accordance with section 351.224(b) of the Department's regulations.

Assessment

Upon issuance of the final results, the Department will determine, and U.S. Customs and Border Protection (“CBP”) shall assess, antidumping duties on all appropriate entries. The Department intends to issue assessment instructions to CBP 15 days after the date of publication of the final results of review. Pursuant to section 351.212(b)(1) of the Department's regulations, we will calculate importer-specific (or customer) ad valorem duty assessment rates based on the ratio of the total amount of the dumping margins calculated for the examined sales to the total entered value of those same sales. In accordance with section 351.106(c)(2) of the Department's regulations, we will instruct CBP to liquidate, without regard to antidumping duties, all entries of subject merchandise during the POR for which the importer-specific assessment rate is zero or de minimis.

Cash Deposit Requirements

The following cash deposit requirements will be effective upon publication of the final results of this administrative review for all shipments of the subject merchandise entered, or withdrawn from warehouse, for consumption on or after the publication date, as provided for by section 751(a)(2)(C) of the Act: (1) For the exporter listed above, the cash deposit rate will be the rate established in the final results of review (except, if the rate is zero or de minimis, i.e., less than 0.5 percent, a zero cash deposit rate will be required for that company); (2) for previously investigated or reviewed PRC and non-PRC exporters not listed above that have a separate rate, the cash deposit rate will continue to be the exporter-specific rate published for the most recent period; (3) for all PRC exporters of subject merchandise which have not been found to be entitled to a separate rate, the cash deposit rate will be the PRC-wide rate of 188.05 percent; and (4) for all non-PRC exporters of subject merchandise which have not received their own rate, the cash deposit rate will be the rate applicable to the PRC exporters that supplied that non-PRC exporter. The deposit requirements, when imposed, shall remain in effect until further notice.

Reimbursement of Duties

This notice also serves as a final reminder to importers of their responsibility under section 351.402(f) of the Department's regulations to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with section 351.305 of the Department's regulations, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: September 19, 2012.
Paul Piquado,
Assistant Secretary for Import Administration.

Appendix I

Comment I. Surrogate Financial Ratios

Comment II. Surrogate Value for Electricity

Comment III. Surrogate Value for Yellow Phosphorous

Comment IV. Freight

A. Capping the Sigma ⁹ Distance

⁹ See Sigma Corp. v. United States, 117 F. 3d 1401 (Fed. Cir. 1997) (“Sigma”).

B. Surrogate Value for Truck Freight

C. Surrogate Value for Barge Freight

Comment V. Coal

A. Surrogate Value for White Coal

B. Surrogate Value for Crude Coal

Comment VI. Surrogate Value for Phosphate Rock

Comment VII. Surrogate Value for Phosphate Slag

Comment VIII. Surrogate Value for Super Sacks

[FR Doc. 2012-23832 Filed 9-26-12; 8:45 am]

BILLING CODE 3510-DS-P